UNIFIED CARRIER REGISTRATION PLAN

Sunshine Act Meeting Notice; Unified Carrier Registration Plan Board Subcommittee Meeting

TIME AND DATE: October 14, 2020, from Noon to 2 p.m., Eastern time.

PLACE: This meeting will be accessible via conference call and via Zoom Meeting and Screenshare. Any interested person may call (i) 1-929-205-6099 (U.S. Toll) or 1-669-900-6833 (U.S. Toll) or (ii) 1-877-853-5247 (U.S. Toll Free) or 1-888-788-0099 (U.S. Toll Free), Meeting ID: 988 769 77934, to listen and participate in this meeting. The website to participate via Zoom Meeting and Screenshare is https://kellen.zoom.us/j/98876977934.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call To Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Subcommittee Agenda will be reviewed, and the Subcommittee will consider adoption.

Ground Rules

➢ Subcommittee action only to be taken in designated areas on agenda

IV. Review and Approval of Subcommittee Minutes From the January 27, 2020 Meeting—Subcommittee Chair

For Discussion and Possible Subcommittee Action

Draft minutes from the January 27, 2020 Subcommittee meeting will be reviewed. The Subcommittee will consider action to approve.

V. Update From Williams Benator and Libby (Independent Auditors)—UCR Depository Manager

The Independent Auditors will address the Subcommittee and answer questions, with an emphasis on the financial statement audits of the UCR Depository for the 2017-2019 fiscal years and issues regarding internal controls over financial reporting.

VI. State Compliance Reviews—UCR Depository Manager

For Discussion and Possible Subcommittee Action

The UCR Depository Manager will discuss plans for completing state compliance reviews for 2020 and make recommendations for the eight state compliance reviews planned for 2021.

VII. Unregistered Brokers—Subcommittee Chair

The Subcommittee Chair will discuss the challenges that unregistered brokers present to UCR enforcement. The discussion will highlight jurisdiction and other challenges, and may also include dialogue regarding successes and ideas for addressing broker registration enforcement.

VIII. Tracking of Audit Data in the National Registration System (NRS)—Subcommittee Chair

For Discussion and Possible Subcommittee Action

The Subcommittee Chair will discuss the merits of the Subcommittee having an oversight role in the audit notes on closed audits regarding the FARs and MCS-150 databases when there is an indication of an error or insufficient documentation to close the audit. The Subcommittee may take action to recommend to the Board adoption of an oversight role regarding audit notes.

IX. Discuss the Effectiveness of Solicitation Programs at Both the State Level and in the NRS—Subcommittee Chair

For Discussion and Possible Subcommittee Action

The Subcommittee Chair will lead a discussion regarding the various solicitation programs/policies deployed by the participating states and the NRS. The Subcommittee may take action to recommend to the Board adoption of a model solicitation program/policy.

X. Search and Recommendation of a Vice-Chair for the Audit Subcommittee—Subcommittee Chair

For Discussion and Possible Subcommittee Action

The Subcommittee Chair will seek nominations for a Vice-Chair of the Audit Subcommittee. Action may be taken to nominate and recommend to the Chair of the UCR Board a candidate for Vice-Chair of the Audit Subcommittee.

XI. Other Items—Subcommittee Chair

The Subcommittee Chair will call for any other items the committee members would like to discuss.

XII. Adjournment—Subcommittee Chair

The Subcommittee Chair will adjourn the meeting.

The agenda will be available no later than 5:00 p.m. Eastern time, October 7, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-22678 Filed 10-8-20; 4:15 pm]

BILLING CODE 4910-YL-P